DEPARTMENT OF AGRICULTURE

Natural Resources Conservation Service

[Docket ID NRCS-2019-0013]

Watkins Branch Watershed in Buchanan County, Virginia

AGENCY: Natural Resources Conservation Service (NRCS), U.S. Department of Agriculture (USDA).

ACTION: Notice of Deauthorization of Federal Funding.

SUMMARY: NRCS gives notice of the deauthorization of Federal funding for the Watkins Branch Watershed project in Buchanan County, Virginia.

FOR FURTHER INFORMATION CONTACT: John Bricker, Virginia State Conservationist, NRCS, 1606 Santa Rosa Road, Suite 209, Richmond, Virginia 23229. Telephone (804) 287-1691 or email: Jack.Bricker@va.usda.gov.

SUPPLEMENTARY INFORMATION: Pursuant to the Watershed Protection and Flood Prevention Act of 1954 (Pub. L. 83-566) and NRCS Guidelines (7 CFR part 622), a determination has been made by John Bricker that the proposed works of improvement for the Watkins Branch Watershed project will not be installed. The sponsoring local organizations have concurred in this determination and agree that Federal funding should be deauthorized for the project. Information regarding this determination may be obtained from John Bricker at the above telephone number.

The action does not constitute a major Federal action that would significantly affect the quality of the human environment, individually or cumulatively. Therefore, an environmental assessment or environmental impact statement is not needed for this action. No administrative action on implementation of the proposed deauthorization will be taken until 60 days after the date of this publication in the Federal Register.

Catalog of Federal Domestic Assistance: Catalog of Federal Domestic Assistance Program No. 10.904, Watershed Protection and Flood Prevention. Executive Order 12372 regarding State and local clearinghouse review of Federal and federally assisted programs and project is applicable.

John A. Bricker,
VA State Conservationist, Natural Resources Conservation Service.

[FR Doc. 2019-24447 Filed 11-7-19; 8:45 am]

BILLING CODE 3410-16-P